DEPARTMENT OF HOMELAND SECURITY

Federal Emergency Management Agency

[Docket ID FEMA-2024-0002; Internal Agency Docket No. FEMA-B-2417]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona: Pinal | City of Maricopa (23-09-0166P) | The Honorable Nancy Smith, Mayor, City of Maricopa, 39700 West Civic Center Plaza, Maricopa, AZ 85138 | City Hall, 39700 West Civic Center Plaza, Maricopa, AZ 85138 | https://msc.fema.gov/portal/advanceSearch | Jun. 14, 2024 | 040052
California:
Fresno | City of Clovis (22-09-1501P) | The Honorable Lynne Ashbeck, Mayor, City of Clovis, 1033 5th Street, Clovis, CA 93612 | City Clerk's Office, Civic Center, 1033 5th Street, Clovis, CA 93612 | https://msc.fema.gov/portal/advanceSearch | May 20, 2024 | 060044
Riverside | City of Jurupa Valley (22-09-1654P) | The Honorable Chris Barajas, Mayor, City of Jurupa Valley, 8930 Limonite Avenue, Jurupa Valley, CA 92509 | City Hall, 8930 Limonite Avenue, Jurupa Valley, CA 92509 | https://msc.fema.gov/portal/advanceSearch | Jun. 12, 2024 | 060286
Riverside | City of Perris (23-09-0343P) | The Honorable Michael Vargas, Mayor, City of Perris, 101 North D Street, Perris, CA 92570 | Engineering Department, 24 South D Street, Suite 100, Perris, CA 92570 | https://msc.fema.gov/portal/advanceSearch | May 20, 2024 | 060258
Sacramento | Unincorporated Areas of Sacramento County (23-09-0304P) | The Honorable Patrick Kennedy, Chair, Board of Supervisors, Sacramento County, 700 H Street, Suite 2450, Sacramento, CA 95814 | Sacramento County, Department of Water Resources, 827 7th Street, Suite 301, Sacramento, CA 95814 | https://msc.fema.gov/portal/advanceSearch | Jun. 19, 2024 | 060262
San Diego | City of Santee (22-09-1269P) | The Honorable John Minto, Mayor, City of Santee, 10601 Magnolia Avenue, Santee, CA 92071 | City Hall, 10601 Magnolia Drive, Santee, CA 92071 | https://msc.fema.gov/portal/advanceSearch | Jun. 10, 2024 | 060703
San Luis Obispo | City of San Luis Obispo (22-09-0998P) | The Honorable Erica A. Stewart, Mayor, City of San Luis Obispo, 990 Palm Street, San Luis Obispo, CA 93401 | Community Development, Public Works Department, 990 Palm Street, San Luis Obispo, CA 93401 | https://msc.fema.gov/portal/advanceSearch | Jun. 24, 2024 | 060310
Yuba | Unincorporated Areas of Yuba County (23-09-0313P) | The Honorable Don Blaser, Chair, Board of Supervisors, Yuba County, 915 8th Street, Suite 109, Marysville, CA 95901 | Yuba County, Public Works Department, 915 8th Street, Suite 125, Marysville, CA 95901 | https://msc.fema.gov/portal/advanceSearch | Jun. 6, 2024 | 060427
Florida:
Clay | Unincorporated Areas of Clay County (23-04-0524P) | Howard Wanamaker, Manager, Clay County, P.O. Box 1366, Green Cove Springs, FL 32043 | Clay County, Public Works Department, 5 Esplanade Avenue, Green Cove Springs, FL 32043 | https://msc.fema.gov/portal/advanceSearch | Jun. 14, 2024 | 120064
Duval | City of Jacksonville (23-04-0524P) | The Honorable Donna Deegan, Mayor, City of Jacksonville, 117 West Duval Street Suite 400, Jacksonville, FL 32202 | Edward Ball Building Development Services, 214 North Hogan Street, Room 2100, Jacksonville, FL 32202 | https://msc.fema.gov/portal/advanceSearch | Jun. 14, 2024 | 120077
Duval | City of Jacksonville (23-04-3892P) | The Honorable Donna Deegan, Mayor, City of Jacksonville, 117 West Duval Street Suite 400, Jacksonville, FL 32202 | Edward Ball Building Development Services, 214 North Hogan Street, Room 2100, Jacksonville, FL 32202 | https://msc.fema.gov/portal/advanceSearch | Jun. 21, 2024 | 120077
Idaho:
Lincoln | City of Shoshone (23-10-0335P) | The Honorable Dan Pierson, Mayor, City of Shoshone, 207 South Rail Street West, Shoshone, ID 83352 | Lincoln County Courthouse, 111 West B Street #C, Shoshone, ID 83352 | https://msc.fema.gov/portal/advanceSearch | May 23, 2024 | 160096
Lincoln | Unincorporated Areas of Lincoln County (23-10-0335P) | Rebecca Wood, County Commissioner, Lincoln County, 111 West B Street #C, Shoshone, ID 83352 | Lincoln County Courthouse, 111 West B Street #C, Shoshone, ID 83352 | https://msc.fema.gov/portal/advanceSearch | May 23, 2024 | 160216
Indiana: Hamilton | City of Westfield (22-05-3141P) | The Honorable Andy Cook, Mayor, City of Westfield, 2728 East 171St Street, Westfield, IN 46074 | Town Hall, 130 Penn Street, Westfield, IN 46074 | https://msc.fema.gov/portal/advanceSearch | May 28, 2024 | 180083
Iowa: Warren | City of Norwalk (23-07-0588P) | The Honorable Tom Phillips, Mayor, City of Norwalk, City Hall, 705 North Avenue, Norwalk, IA 50211 | Community Development and Planner's Office, 705 North Avenue, Norwalk, IA 50211 | https://msc.fema.gov/portal/advanceSearch | May 24, 2024 | 190631
Kansas: Sedgwick | City of Wichita (23-07-0427P) | The Honorable Brandon Whipple, Mayor, City of Wichita, 455 North Main, 1st Floor, Wichita, KS 67202 | Office of Storm Water Management, 455 North Main Street 8th Floor, Wichita, KS 67202 | https://msc.fema.gov/portal/advanceSearch | Jun. 3, 2024 | 200328
Michigan:
Macomb | Charter Township of Shelby (22-05-2880P) | Richard Stathakis, Supervisor, Board of Trustees, Charter Township of Shelby, 52700 Van Dyke Avenue, Shelby Township, MI 48316 | Municipal Offices, 52700 Van Dyke Avenue, Shelby Township, MI 48316 | https://msc.fema.gov/portal/advanceSearch | May 6, 2024 | 260126
Macomb | City of Utica (22-05-2880P) | The Honorable Gus Calandrino, Mayor, City of Utica, 7550 Auburn Road, Utica, MI 48087 | City Hall, 7550 Auburn Road, Utica, MI 48087 | https://msc.fema.gov/portal/advanceSearch | May 6, 2024 | 260608
Oakland | City of Southfield (23-05-1231P) | The Honorable Kenson J. Siver, Mayor, City of Southfield, 26000 Evergreen Road, Southfield, MI 48037 | City Hall, 26000 Evergreen Road, Southfield, MI 48037 | https://msc.fema.gov/portal/advanceSearch | Jun. 21, 2024 | 260179
Minnesota:
Lyon | City of Ghent (22-05-2884P) | The Honorable Doug Anderson, Mayor, City of Ghent, P.O. Box 97, Ghent, MN 56239 | City Hall, 107 North Chapman Street, Ghent, MN 56239 | https://msc.fema.gov/portal/advanceSearch | May 24, 2024 | 270257
Lyon | Unincorporated Areas of Lyon County (22-05-2884P) | Rick Anderson, Chair, Lyon County Board of Commissioners, 2332 140th Street, Balaton, MN 56115 | Lyon County Planning and Zoning Department, 1424 East College Drive, #600, Marshall, MN 56258 | https://msc.fema.gov/portal/advanceSearch | May 24, 2024 | 270256
Missouri:
St. Louis | City of Ladue (23-07-0790P) | The Honorable Nancy Spewak, Mayor, City of Ladue, 9345 Clayton Road, Ladue, MO 63141 | Public Works Department, 9345 Clayton Road, Ladue, MO 63141 | https://msc.fema.gov/portal/advanceSearch | May 20, 2024 | 290363
St. Louis | City of Rock Hill (23-07-0790P) | The Honorable Edward Mahan, Mayor, City of Rock Hill, 827 North Rock Hill Road, Rock Hill, MO 63119 | City Hall, 320 West Thornton Avenue, Rock Hill, MO 63119 | https://msc.fema.gov/portal/advanceSearch | May 20, 2024 | 290382
Nevada: Clark | City of Henderson (23-09-1206P) | The Honorable Michelle Romero, Mayor, City of Henderson, City Hall, 240 South Water Street, Henderson, NV 89015 | Public Works Department, 240 South Water Street, Henderson, NV 89015 | https://msc.fema.gov/portal/advanceSearch | Jun. 10, 2024 | 320005
New Jersey: Mercer | Borough of Hightstown (23-02-0254P) | The Honorable Susan Bluth, Mayor, Borough of Hightstown, 156 Bank Street, Hightstown, NJ 08520 | Clerk's Office, 156 Bank Street, Hightstown, NJ 08520 | https://msc.fema.gov/portal/advanceSearch | May 24, 2024 | 340247
New York:
Clinton | Town of Black Brook (23-02-0675P) | Jon Douglass, Supervisor, Town of Black Brook, 18 North Main Street, AuSable Forks, NY 12912 | Town Hall, 18 North Main Street, AuSable, NY 12912 | https://msc.fema.gov/portal/advanceSearch | Jun. 20, 2024 | 361309
Clinton. | Town of Schuyler Falls (23-02-0675P) | Kevin Randall, Supervisor, Town of Schuyler Falls, Town Hall, P.O. Box 99, Morrisonville, NY 12962 | Town Office, 997 Mason Street, Schuyler Falls, NY 12962 | https://msc.fema.gov/portal/advanceSearch | Jun. 20, 2024 | 360172
Ohio:
Delaware | Unincorporated Areas of Delaware County (23-05-2724P) | Jeff Benton, Chair, Delaware County Board of Commissioners, 91 North Sandusky Street, Delaware, OH 43015 | Delaware County Building Regulations, 50 Channing Street South Wing, Delaware, OH 43015 | https://msc.fema.gov/portal/advanceSearch | May 9, 2024 | 390146
Montgomery | City of Centerville (23-05-1144P) | The Honorable Brooks Compton, Mayor, City of Centerville, City Offices, 350 Roselake Drive, Centerville, OH 45458 | Municipal Government Center, 100 West Spring Valley Road, Centerville, OH 45458 | https://msc.fema.gov/portal/advanceSearch | Jun. 21, 2024 | 390408
Oregon: Multnomah | City of Portland (23-10-0473P) | The Honorable Ted Wheeler, Mayor, City of Portland, 1221 Southwest 4th Avenue, Room 340 Portland, OR 97204 | Bureau of Environmental Services, 1221 Southwest 4th Avenue, Room 230, Portland, OR 97204 | https://msc.fema.gov/portal/advanceSearch | May 24, 2024 | 410183

[FR Doc. 2024-05355 Filed 3-13-24; 8:45 am]

BILLING CODE 9110-12-P